DEPARTMENT OF HEALTH AND HUMAN SERVICES

National Institutes of Health

National Library of Medicine Amended; Notice of Meeting

Notice is hereby given of a change in the meeting of the National Library of Medicine Special Emphasis Panel, March 24, 2023, 11 a.m. to 3 p.m. This notice was published in the Federal Register on October 6, 2022, 87 FR 193, Page 60698.

This notice is being amended to change the Scientific Review Officer from Dr. Jan Li to Dr. Ramesh Vemuri.

Dated: February 21, 2023.
Miguelina Perez,
Program Analyst, Office of Federal Advisory Committee Policy.

[FR Doc. 2023-03855 Filed 2-23-23; 8:45 am]

BILLING CODE 4140-01-P